DEPARTMENT OF TRANSPORTATION

Pipeline and Hazardous Materials Safety Administration

[Docket No. PHMSA-2018-0026]

Pipeline Safety: Public Meeting on Unusually Sensitive Area Definitions and Pipeline Awareness and Engagement

AGENCY: Pipeline and Hazardous Materials Safety Administration (PHMSA), DOT.

ACTION: Notice.

SUMMARY: This notice announces a two-part public meeting to discuss (1) amending the applicable Unusually Sensitive Areas (USA) definition for the Great Lakes, coastal beaches, and marine coastal waters and (2) public awareness and engagement. During this meeting, PHMSA will provide updates on amending the applicable USA and/or high consequences area (HCA) definitions to include the Great Lakes, coastal beaches and marine coastal waters and seek input on applicable definition options and available geospatial information system (GIS) data. In addition, PHMSA will seek input to determine the most effective methods to inform all stakeholders on their shared responsibilities in relation to pipeline safety.

DATES: The public meeting will be held on June 12-13, 2019, from 8:30 a.m. to 5:00 p.m. ET. Both parts of the meeting will be webcast. The discussion on amending the USA and HCA definition will take place on June 12, 2019, from 8:30 a.m. to 12:30 p.m. ET. The discussion on public awareness and engagement will take place on June 12, 2019, from 1:30 p.m. to 5:00 p.m. ET and on June 13, 2019, from 8:30 a.m. to 5:00 p.m. ET. Members of the public who wish to attend in person should register no later than May 28, 2019. Individuals requiring accommodations, such as sign language interpretation or other ancillary aids, may notify PHMSA by May 28, 2019. For additional information, see the ADDRESSES section.

ADDRESSES: The meeting will be held at the U.S. Department of Transportation, West Building Atrium, 1200 New Jersey Ave SE, Washington, DC 20590. The agenda and any additional information for the meeting will be published on the following registration page at https://primis.phmsa.dot.gov/meetings/MtgHome.mtg?mtg=142.

Members of the public who wish to attend in person should register at https://primis.phmsa.dot.gov/meetings/MtgHome.mtg?mtg=142.

The meeting will be webcast and presentations will be available on the meeting registration website and posted on the E-Gov website at https://www.regulations.gov, under docket number PHMSA-2017-0094 for the USA Definition meeting and docket number PHMSA-2018-0026 for the Public Awareness and Engagement meeting, within 30 days following the meeting.

Public Participation: The meeting will be open to the public. Members of the public who attend in person will also be provided an opportunity to make a statement during the meetings.

Written comments: Persons who wish to submit written comments on the meetings may submit them to the docket in the following ways:

E-Gov website: https://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of the DOT West Building, 1200 New Jersey Avenue SE, Washington, DC, between 9:00 a.m. and 5:00 p.m., Monday through Friday, except on Federal holidays.

Instructions: Identify the docket number PHMSA-2017-0094 for the USA definition meeting and docket number PHMSA-2018-0026 for the Public Awareness and Engagement meeting at the beginning of your comments. Note that all comments received will be posted without change at https://www.regulations.gov, including any personal information provided.

Anyone can search the electronic form of all comments received into any of our dockets by the name of the individual submitting the comment (or signing the comment, if submitted on behalf of an association, business, labor union, etc.). Therefore, consider reviewing DOT's complete Privacy Act Statement in the Federal Register published on April 11, 2000, (65 FR 19477), or view the Privacy Notice at https://www.regulations.gov, before submitting comments.

Docket: For docket access or to read background documents or comments, go to https://www.regulations.gov, at any time or to Room W12-140 on the ground level of the DOT West Building, 1200 New Jersey Avenue SE, Washington, DC, between 9:00 a.m. and 5:00 p.m., Monday through Friday, except Federal holidays.

If you wish to receive confirmation of receipt of your written comments, please include a self-addressed, stamped postcard with the following statement: “Comments on PHMSA-2017-0094” for the USA definitions and/or “Comments on PHMSA-2018-0026” for public awareness and engagement. The docket clerk will date stamp the postcard prior to returning it to you via the U.S. mail.

Privacy Act Statement

DOT may solicit comments from the public regarding certain general notices. DOT posts these comments, without edit, including any personal information the commenter provides, to https://www.regulations.gov, as described in the system of records notice (DOT/ALL-14 FDMS), which can be reviewed at https://www.dot.gov/privacy.

Services for Individuals with Disabilities: The public meeting will be physically accessible to people with disabilities. Individuals requiring accommodations, such as sign language interpretation or other ancillary aids, are asked to notify Dr. Christie Murray at christie.murray@dot.gov.

FOR FURTHER INFORMATION CONTACT: For information about the meeting, contact Dr. Christie Murray by phone at 202-366-4996 or by email at christie.murray@dot.gov.

SUPPLEMENTARY INFORMATION:

I. Background

Section 19 of the Protecting our Infrastructure of Pipelines and Enhancing Safety Act of 2016 (Pub. L. 114-183) required PHMSA to amend the USA definition to include the Great Lakes, coastal beaches and marine coastal waters. Proximity to a USA is one method to determine whether a pipeline could affect an HCA. GIS data of USAs are available by request for liquid pipeline operators. The definition of a USA is established in 49 CFR 195.6. Hazardous liquid pipelines that could affect HCA areas are subject to certain integrity management and reporting regulations. To address this mandate, PHMSA must define, identify data sources, and maintain a map of these areas in the National Pipeline Mapping System. In November 2017, PHMSA held a public meeting where stakeholders provided feedback on definition and data source options. Since then, PHMSA conducted research to determine the availability and quality of source data recommended at the November 2017 public meeting, and the level of effort to create and maintain the proposed GIS data. Additionally, PHMSA analyzed HCA data, including a July 2018 update to the Ecological USA data, to identify existing gaps and overlaps of coverage in the coastal areas of interest.

PHMSA advances pipeline safety by providing oversight of public awareness safety regulations and sets the national safety outreach and engagement agenda by engaging with pipeline stakeholders to proactively determine the most effective methods to inform the public, emergency responders, excavators, land use planners and others regarding the shared responsibility of pipeline safety. Sections 192.616 and 195.440 require pipeline operators to develop and implement public awareness programs that follow the guidance provided by the American Petroleum Institute (API) Recommended Practice 1162, “Public Awareness Programs for Pipeline Operators.” Stakeholders will have an opportunity to participate in pipeline safety discussions, including federal and state regulators, trade associations, pipeline operators, the public, emergency response officials, land planners, and excavators.

II. Meeting Details and Agenda

The meeting agenda will include briefings on topics such as amending applicable USA definitions, pipeline safety, public awareness and engagement, risk communications, API RP 1162, voluntary information sharing, risk communications, national pipeline mapping system, and more.

PHMSA will publish the agenda on the PHMSA meeting page at https://primis.phmsa.dot.gov/meetings/MtgHome.mtg?mtg=142, once it is finalized.

Issued in Washington, DC, on May 22, 2019, under authority delegated in 49 CFR 1.97.
Alan K. Mayberry,
Associate Administrator for Pipeline Safety.

[FR Doc. 2019-11042 Filed 5-24-19; 8:45 am]

BILLING CODE 4910-60-P